DEPARTMENT OF AGRICULTURE

Natural Resources Conservation Service

Black Bayou Culverts Hydrologic Restoration Project (CS-29), Calcasieu Parish, LA

AGENCY: Natural Resources Conservation Service.

ACTION: Notice of finding of no significant impact.

SUMMARY: Pursuant to section 102(2)(c) of the National Environmental Policy Act of 1969; the Council on Environmental Quality Regulations (40 CFR Part 1500); and the Natural Resources Conservation Service Regulation (7 CFR Part 650); the Natural Resources Conservation Service, U.S. Department of Agriculture, gives notice that an environmental impact statement is not being prepared for the Black Bayou Culverts Hydrologic Restoration Project (CS-29), Calcasieu Parish, Louisiana.

FOR FURTHER INFORMATION CONTACT: Donald W. Gohmert, State Conservationist, Natural Resources Conservation Service, 3737 Governmental Street, Alexandria, Louisiana, 71302, telephone (318) 473-7751.

SUPPLEMENTARY INFORMATION: The environmental assessment of this federally assisted action indicates that the project will not cause significant local, regional, or national impacts on the environment. As a result of these findings, Donald W. Gohmert, State Conservationist, has determined that the preparation and review of an environmental impact statement are not needed for this project.

The project consists of the installation of a set of culverts under Highway 384 at its intersection of Black Bayou. The culverts would re-establish a hydrologic connection in Black Bayou at Highway 384 to help give relieve to high water conditions within the fresh water marsh basin.

The Notice of a Finding of No Significant Impact (FONSI) has been forwarded to the Environmental Protection Agency and to various federal, state, and local agencies and interested parties. A limited number of copies of the FONSI are available to fill single copy requests at the above address. Basic data developed during the environmental assessment are on file and may be reviewed by contacting Bruce Lehto, Assistant State Conservationist/Water Resources, Natural Resources Conservation Service, 3737 Government Street, Alexandria, Louisiana 71302, telephone (318) 473-7756.

No administrative action on implementation of the proposal will be taken until 30 days after the date of this publication in the Federal Register.

(This activity is listed in the Catalog of Federal Domestic Assistance under NO.10.904, Watershed Protection and Flood Prevention, and is subject to the provision of Executive Order 12372, which requires intergovernmental consultation with State and local officials.)
Dated: May 24, 2000.
Donald W. Gohmert,
State Conservationist.

[FR Doc. 00-14066 Filed 6-5-00; 8:45 am]

BILLING CODE 3410-16-M